DEPARTMENT OF TRANSPORTATION

Federal Aviation Administration

14 CFR Part 39

[Docket No. FAA-2014-0282; Directorate Identifier 2012-NM-168-AD; Amendment 39-18242; AD 2015-17-09]

RIN 2120-AA64

Airworthiness Directives; Airbus Airplanes

AGENCY: Federal Aviation Administration (FAA), Department of Transportation (DOT).

ACTION: Final rule.

SUMMARY: We are superseding Airworthiness Directive (AD) 98-18-02 for certain Airbus Model A300 B4-600, B4-600R, and F4-600R series airplanes, and Model C4-605R variant F airplanes (collectively called A300-600 series airplanes). AD 98-18-02 required inspections to detect cracks in the center spar sealing angles adjacent to the pylon rear attachment and in the adjacent butt strap and skin panel, and correction of discrepancies. This new AD continues to require inspections for cracks. This new AD also requires a modification by cold expansion of the center spar sealing angles, replacement of both sealing angles and cold expansion of the attachment holes if necessary, and post-repair repetitive inspections and corrective actions if necessary. This AD was prompted by reports of cracking in the vertical web of the center spar sealing angles of the wing, and subsequent analyses that showed that the inspection threshold and interval specified in AD 98-18-02 must be reduced to allow timely detection of cracks on the sealing angles of the center spar, adjacent to rib 8. We are issuing this AD to prevent crack formation in the sealing angles, which could rupture the sealing angle and lead to subsequent crack formation in the bottom skin of the wing, and result in reduced structural integrity of the center spar section of the wing.

DATES: This AD becomes effective September 24, 2015.

The Director of the Federal Register approved the incorporation by reference of certain publications listed in this AD as of September 24, 2015.

ADDRESSES: You may examine the AD docket on the Internet at http://www.regulations.gov/#!docketDetail;D=FAA-2014-0282; or in person at the Docket Management Facility, U.S. Department of Transportation, Docket Operations, M-30, West Building Ground Floor, Room W12-140, 1200 New Jersey Avenue SE., Washington, DC.

For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2014-0282.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 to supersede AD 2006-07-07, Amendment 39-14534 (71 FR 16206, March 31, 2006; corrected April 21, 2006 (71 FR 20530)). AD 2006-07-07 applied to certain Airbus Model A300 B4-600, B4-600R, and F4-600R series airplanes, and Model C4-605R variant F airplanes (collectively called A300-600 series airplanes). The NPRM published in the Federal Register on May 9, 2014 (79 FR 26651). The NPRM was prompted by reports of cracking in the vertical web of the center spar sealing angles of the wing, and subsequent analyses that showed that the inspection threshold and interval must be reduced to allow timely detection of cracks. The NPRM proposed to continue to require the actions in AD 2006-07-07: Modification of bolt holes in the vertical flange of the center spar sealing angles, and applicable related investigative and corrective actions. The NPRM also proposed to require inspections for cracks, a modification by cold expansion of the center spar sealing angles, replacement of both sealing angles and cold expansion of the attachment holes if necessary, and post-repair repetitive inspections and corrective actions if necessary. We are issuing this AD to prevent crack formation in the sealing angles, which could rupture the sealing angle and lead to subsequent crack formation in the bottom skin of the wing, and result in reduced structural integrity of the center spar section of the wing.

Although we proposed to supersede AD 2006-07-07, Amendment 39-14534 (71 FR 16206, March 31, 2006; corrected April 21, 2006 (71 FR 20530)), this AD instead supersedes AD 98-18-02, Amendment 39-10718 (63 FR 45689, August 27, 1998). AD 98-18-02 required inspections using an earlier revision of Airbus Service Bulletin A300-57-6027, Revision 07, dated June 6, 2011, which is the appropriate source of service information for doing the inspections required by this AD. This change to the proposed actions is explained in the “Request to Supersede a Different AD” paragraph in the preamble of this final rule.

The European Aviation Safety Agency (EASA), which is the Technical Agent for the Member States of the European Union, has issued EASA AD 2012-0194, dated September 25, 2012 (referred to after this as the Mandatory Continuing Airworthiness Information, or “the MCAI”), to correct an unsafe condition for certain Airbus Model A300 B4-600, B4-600R, and F4-600R series airplanes, and Model C4-605R variant F airplanes (collectively called A300-600 series airplanes). The MCAI states:

Fatigue testing applied to a test airframe confirmed the initiation of cracks on the sealing angles of the centre spar, adjacent to rib 8, which could lead to the rupture of the sealing angles and the subsequent crack initiation in the bottom skin of the wing.

This condition, if not detected and corrected, could affect the structural integrity of the aeroplane.

To address this unsafe condition, DGAC [French Civil Aviation Authority] France issued * * * [an earlier AD][which corresponds to FAA AD 98-18-02, Amendment 39-10718, (63 FR 45689, August 27, 1998)] to require inspection of centre spar sealing angles adjacent to pylon rear attachment fittings of Left Hand (LH) and Right Hand (RH) wings.

Early cracks reported on an in-service aeroplane prompted Airbus to conduct additional investigations. Based on the results, DGAC France issued * * * [an AD that superseded the earlier DGAC AD], to require modification of the affected aeroplanes as specified in Airbus Service Bulletin (SB) A300-57-6033 (Airbus Mod 8609), as well as post-modification repetitive inspections. [DGAC France AD 2003-290(B)R1 (http://www.regulations.gov/#!documentDetail;D=FAA-2006-24364-0008) revised the DGAC AD that required modification and post-modification repetitive inspections.]

Since DGAC France AD 2003-290(B)R1 was issued [which corresponds to FAA AD 2006-07-07, Amendment 39-14534 (71 FR 16206, March 31, 2006; corrected April 21, 2006 (71 FR 20530))], a fleet survey and updated Fatigue and Damage Tolerance analyses have been performed in order to substantiate the second A300-600 Extended Service Goal (ESG2) exercise. The results of these analyses have shown that the inspection threshold and interval must be reduced to allow timely detection of cracks on the sealing angles of the centre spar, adjacent to rib 8.

For the reasons described above, this new [EASA] AD retains the requirements of DGAC France AD 2003-290(B)R1, which is superseded, and requires the accomplishment instructions at the new thresholds and intervals given by Revision 07 of Airbus Service Bulletin (SB) A300-57-6027.

The required actions also include repetitive high frequency eddy current (HFEC) inspections of the center spar sealing angles adjacent to the pylon rear attachment fitting for cracks, modifying the airplane by cold expansion of the center spar sealing angles outboard of rib 8 if necessary, replacing both of the forward and aft sealing angles with new sealing angles and cold expanding the attachment holes if necessary, and doing post-repair repetitive inspections and corrective actions if necessary. You may examine the MCAI in the AD docket on the Internet at http://www.regulations.gov/#!documentDetail;D=FAA-2014-0282-0002.

Comments

We gave the public the opportunity to participate in developing this AD. The following presents the comments received on the NPRM (79 FR 26651, May 9, 2014) and the FAA's response to each comment.

Request To Supersede a Different AD

UPS requested that AD 98-18-02, Amendment 39-10718 (63 FR 45689, August 27, 1998), be superseded and AD 2006-07-07, Amendment 39-14534 (71 FR 16206, March 31, 2006; corrected April 21, 2006 (71 FR 20530)), remain a stand-alone AD to address potential conflicts with the inspection interval differences. UPS stated that AD 98-18-02 refers to Airbus Industrie Service Bulletin A300-57-6027, Revision 2, dated September 13, 1994, as the appropriate source of service information for accomplishing inspections required by AD 98-18-02.

UPS also stated that the NPRM (79 FR 26651, May 9, 2014) refers to Airbus Service Bulletin A300-57-6027, Revision 07, dated June 6, 2011, as the appropriate source of service information for accomplishing inspections specified in the NPRM. UPS stated there is a conflict in the inspection intervals between Airbus Industrie Service Bulletin A300-57-6027, Revision 2, dated September 13, 1994; and Airbus Service Bulletin A300-57-6027, Revision 07, dated June 6, 2011. UPS also noted that AD 2006-07-07, Amendment 39-14534 (71 FR 16206, March 31, 2006; corrected April 21, 2006 (71 FR 20530)), requires a one-time modification in accordance with different service information (Airbus Service Bulletin A300-57-6033, Revision 01, dated December 18, 2003) and therefore that AD could be a stand-alone AD.

We agree with the commenter's request and rationale. We have revised this AD to supersede AD 98-18-02, Amendment 39-10718 (63 FR 45689, August 27, 1998), and require inspections using Airbus Service Bulletin A300-57-6027, Revision 07, dated June 6, 2011. This AD does not retain the inspections specified in Airbus Industrie Service Bulletin A300-57-6027, Revision 2, dated September 13, 1994, and required by AD 98-18-02. In addition, AD 2006-07-07, Amendment 39-14534 (71 FR 16206, March 31, 2006; corrected April 21, 2006 (71 FR 20530)), is not superseded by this AD. Therefore, we have removed paragraphs (g) and (h) of the proposed AD (79 FR 26651, May 9, 2014) from this AD and redesignated the subsequent paragraphs.

We have also revised the “prompted by” sentence in the SUMMARY section of this final rule and paragraph (e) of this AD to specify the AD “was prompted by reports of cracking in the vertical web of the center spar sealing angles of the wing, and subsequent analyses that showed that the inspection threshold and interval specified in AD 98-18-02, Amendment 39-10718 (63 FR 45689, August 27, 1998), must be reduced to allow timely detection of cracks on the sealing angles of the center spar, adjacent to rib 8.”

Request To Revise Compliance Times

UPS requested that we revise the compliance times in the proposed AD (79 FR 26651, May 9, 2014) to reflect specific times regardless of the aircraft utilization rate. UPS stated that a comment response in AD 98-18-02, Amendment 39-10718 (63 FR 45689, August 27, 1998), noted that the FAA did not concur with the “average flight time” (“AFT”) compliance time methodology as it may not address the unsafe condition in a timely manner. UPS stated that paragraphs (i) and (j) of the proposed AD specify that the compliance time is at the applicable times specified in paragraph 1.E., “Compliance,” of Airbus Service Bulletin A300-57-6027, Revision 07, dated June 6, 2011, which establishes the initial and repetitive inspection compliance times based on AFT methodology. UPS requested changing the compliance times in paragraphs (i) and (j) of the proposed AD to reflect specific values regardless of the aircraft utilization rate to provide consistency in the compliance times for the actions required by paragraph (i) of the proposed AD.

We disagree with the commenter's request to revise the compliance times in this AD. At the time the FAA issued AD 98-18-02, Amendment 39-10718 (63 FR 45689, August 27, 1998), the required actions in Airbus Industrie Service Bulletin A300-57-6027, Revision 2, dated September 13, 1994, contained inspection thresholds and intervals based on airplane flight cycles, and provided instructions for adjusting the flight cycle threshold and interval using each individual airplane's AFT utilization. The FAA did not agree with the AFT method because it could result in a different inspection threshold and interval for each individual airplane, and the FAA did not agree with adjusting a flight cycle based threshold and interval using the average flight time utilization without also having a related flight hour based threshold and interval. In Airbus Service Bulletin A300-57-6027, Revision 07, dated June 6, 2011, the inspection thresholds and intervals are now based on the accumulation of both flight cycles and flight hours, and are listed in tables appropriately grouping airplanes with AFT utilization above 1.5 hours, and airplanes with AFT utilization at or below 1.5 hours. The changes made in Airbus Service Bulletin A300-57-6027, Revision 07, dated June 6, 2011, have addressed the FAA's original concerns with the AFT method. Therefore, the current AFT method is acceptable for this AD.

We acknowledge that a fixed compliance time for a fleet could be easier for operators to schedule and record compliance. Therefore, under the provisions of paragraph (m)(1) of this AD, we will consider requests for approval of an alternative method of compliance (AMOC) if a proposal is submitted that is supported by technical data that includes fatigue and damage tolerance analysis. We have not changed this AD in this regard.

Request To Combine Paragraphs (i) Through (m) of the Proposed AD (79 FR 26651, May 9, 2014)

UPS requested that we combine paragraphs (i) through (m) of the proposed AD (79 FR 26651, May 9, 2014) because the complexity of the paragraphs could easily result in incorrect interpretation of the proposed requirements and be counterproductive to the intent of the rule. The commenter stated that the requirements are distributed over five separate paragraphs. The commenter recommended that the requirements be revised by first requiring operators to identify whether Repair Drawing R57140588 or R57150404 or Airbus Service Bulletin A300-57-6033 was done and then by specifying the corresponding actions and compliance times for the affected airplanes.

We acknowledge the requirements are complex. However, we disagree with the request to combine paragraphs (g) through (k) of this AD (which were designated as paragraphs (i) through (m) in the proposed AD (79 FR 26651, May 9, 2014)). As stated previously, we are superseding AD 98-18-02, Amendment 39-10718 (63 FR 45689, August 27, 1998), to prevent any incorrect interpretation of the inspection compliance times. This AD corresponds to EASA AD 2012-0194, dated September 25, 2012, and both ADs refer to Airbus Service Bulletin A300-57-6027, Revision 07, dated June 6, 2011, for compliance times, which specifies the affected airplanes and corresponding compliance times. Paragraph (k) of this AD also specifies exceptions to Airbus Service Bulletin A300-57-6027, Revision 07, dated June 6, 2011, in order to clarify certain actions and compliance times. We have not changed the final rule regarding this issue.

Request To Revise Compliance Time Header

UPS requested that the header for paragraph (j) of the proposed AD (79 FR 26651, May 9, 2014) be revised from “Initial Compliance Times” to “Inspection Compliance Times.” (Paragraph (j) of the proposed AD is redesignated as paragraph (h) of this AD.) UPS stated that “Initial Compliance Times” implies that requirements for subsequent or repetitive actions will be defined elsewhere in the final rule.

We agree to revise the header for paragraph (h) of this AD; however we do not agree to use the terminology specified by the commenter. The requirements for subsequent and repetitive actions are, in fact, identified elsewhere in the final rule. The repetitive intervals for the inspections are specified in paragraph (g) of this AD, which was designated as paragraph (i) of the proposed AD (79 FR 26651, May 9, 2014). Paragraph (g) of this AD contains a sentence that specifies, “Repeat the inspection required by paragraph (g)(1) of this AD thereafter at intervals not to exceed . . . .” For clarity, we have revised the header for paragraph (h) of this AD to specify “Initial Compliance Times for the Actions Required by Paragraph (g) of this AD.”

In addition, we have clarified the corrective action statement in paragraph (i) of this AD by also referring to paragraph (g) of this AD, which contains the repetitive interval for the inspections specified in paragraph (g)(1) of this AD.

Request To Remove Requirement To Refer to This AD in Repair Approvals

UPS requested that we remove the sentence “For a repair method to be approved, the repair approval must specifically refer to this AD” from paragraph (m)(1) of the proposed AD (79 FR 26651, May 9, 2014), which is designated as paragraph (k)(1) of this AD. UPS stated that the FAA included this sentence in the NPRM because there is a “potential” for operators to do repairs that do not adequately address the unsafe condition. UPS commented that adding a reference to the applicable AD on repair documentation does not address the root cause of repair documentation availability. UPS stated that previously approved repairs for an AD should have been vetted as part of the corrective action and AD development process. However, if a repair is not identified during that process, the operator is still responsible for adhering to the Airworthy Product provision in an AD. UPS added that the Airworthy Product provision, in conjunction with FAA Advisory Circular 120-77, “Maintenance and Alteration Data,” dated October 7, 2002 (http://rgl.faa.gov/Regulatory_and_Guidance_Library/rgAdvisoryCircular.nsf/0/199e798c7ee4347786256c4d004ae5dc/$FILE/AC%20120-77.pdf), provides sufficient guidance and clarification for repairs accomplished during compliance with the requirements of an AD.

We concur with the commenter's request to remove from this AD the requirement that repair approvals specifically refer to this AD. We have revised paragraph (k)(1) of this AD accordingly (designated as paragraph (m)(1) of the proposed AD (79 FR 26651, May 9, 2014)).

In addition, to address misinterpretation of the Airworthy Product paragraph, we have changed that paragraph and retitled it “Contacting the Manufacturer.” This paragraph now clarifies that for any requirement in this AD to obtain corrective actions from a manufacturer, the actions must be accomplished using a method approved by the FAA, or the European Aviation Safety Agency (EASA), or Airbus's EASA Design Organization Approval (DOA).

The Contacting the Manufacturer paragraph also clarifies that, if approved by the DOA, the approval must include the DOA-authorized signature. The DOA signature indicates that the data and information contained in the document are EASA approved, which is also FAA approved. Messages and other information provided by the manufacturer that do not contain the DOA-authorized signature approval are not EASA approved, unless EASA directly approves the manufacturer's message or other information. This clarification does not remove flexibility afforded previously by the Airworthy Product paragraph. Consistent with long-standing FAA policy, such flexibility was never intended for required actions. Once we determine that an action is required, any deviation from the requirement must be approved as an alternative method of compliance.

Request To Clarify Actions in Paragraphs (k) and (l) of the Proposed AD (79 FR 26651, May 9, 2014)

UPS requested that we clarify paragraphs (k) and (l) of the proposed AD (79 FR 26651, May 9, 2014). UPS stated that paragraph (l) of the proposed AD specifies “post-modification” actions, but paragraph (k) refers to accomplishing a “repair” using Airbus Service Bulletin A300-57-6027, Revision 07, dated June 6, 2011. UPS noted that Airbus Service Bulletin A300-57-6027, Revision 07, dated June 6, 2011, includes subsequent inspection requirements for airplanes on which the actions specified in repair drawing R57140588 or R57150404 or Airbus Service Bulletin A300-57-6033 were done. UPS concluded that the intent of paragraph (l) of the proposed AD was for repairs outside of Repair Drawing R57140588 or R57150404 or Airbus Service Bulletin A300-57-6033.

We agree that clarification is necessary regarding which action is the “modification” specified in paragraph (j) in this AD, which was designated as paragraph (l) of the proposed AD (79 FR 26651, May 9, 2014). We have replaced the text “After modification of the airplane, as specified in Airbus Service Bulletin A300-57-6027, Revision 07, dated June 6, 2011,” with the following text: “For airplanes on which the modification specified in Airbus Repair Drawing R571504040 has been done.”

Request To Clarify Applicability

UPS requested that we revise paragraph (c) of the proposed AD (79 FR 26651, May 9, 2014) to clarify that airplanes are excluded from the applicability if Airbus Modification 8608 is incorporated “in production.”

We agree with the commenter. Airbus Modification 8608 is a production modification. We have revised paragraph (c) of this AD accordingly by adding “in production” to the text.

Request To Fix Typographical Error

UPS requested that the paragraph designation for paragraph (o)(3) of the proposed AD (79 FR 26651, May 9, 2014) be revised because there are only two sub-paragraphs in paragraph (o) of the proposed AD.

We agree. Paragraph (o) of the proposed AD (79 FR 26651, May 9, 2014) has been redesignated as paragraph (m) of this AD. Therefore, we have redesignated paragraph (o)(3) of the proposed AD (79 FR 26651, May 9, 2014) as paragraph (m)(2) of this AD.

Clarification of Compliance Times and Actions

We have revised the compliance time exception in paragraph (k)(4) of this AD, designated as paragraph (m)(4) of the proposed AD (79 FR 26651, May 9, 2014), to clarify the specified compliance times are since first flight of the airplane.

We have also revised the reference to “paragraph (k)(3) of this AD” within paragraph (g) of this AD to specify “paragraph (k) of this AD” for the compliance time exception.

We have also replaced the word “repairing” with the word “inspecting” in paragraph (k)(1) of this AD because that paragraph specifies compliance times for inspection requirements.

Conclusion

We reviewed the available data, including the comments received, and determined that air safety and the public interest require adopting this AD with the changes described previously and minor editorial changes. We have determined that these minor changes:

• Are consistent with the intent that was proposed in the NPRM (79 FR 26651, May 9, 2014) for correcting the unsafe condition; and

• Do not add any additional burden upon the public than was already proposed in the NPRM (79 FR 26651, May 9, 2014).

Related Service Information Under 1 CFR Part 51

Airbus has issued the following service information:

• Service Bulletin A300-57-6027, Revision 07, dated June 6, 2011, describes procedures for repetitive high frequency eddy current inspections for cracking of the center spar sealing angles adjacent to the pylon rear attachment fitting, and repair.

• Service Bulletin A300-57-6033, Revision 02, dated September 19, 2011, describes procedures for modifying the airplane by cold expansion of the center spar sealing angles outboard of rib 8, including doing the eddy current inspections for cracks of the bolt holes.

This service information is reasonably available because the interested parties have access to it through their normal course of business or by the means identified in the ADDRESSES section of this AD.

Costs of Compliance

We estimate that this AD affects 21 airplanes of U.S. registry.

We estimate that it takes 8 work-hours per product to comply with the new basic requirements of this AD. The average labor rate is $85 per work-hour. Based on these figures, we estimate the cost of the AD on U.S. operators to be $14,280, or $680 per product.

In addition, we estimate that any necessary follow-on actions will take about 42 work-hours and require parts costing $10,000, for a cost of $13,570 per product. We have no way of determining the number of aircraft that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0282; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-18-02, Amendment 39-10718 (63 FR 45689, August 27, 1998), and adding the following new AD:

2015-17-09 Airbus: Amendment 39-18242. Docket No. FAA-2014-0282; Directorate Identifier 2012-NM-168-AD.

(a) Effective Date

This AD becomes effective September 24, 2015.

(b) Affected ADs

This AD replaces AD 98-18-02, Amendment 39-10718 (63 FR 45689, August 27, 1998).

(c) Applicability

This AD applies to Airbus Model A300 B4-601, B4-603, B4-620, B4-622, B4-605R, and B4-622R airplanes, Model A300 F4-605R and F4-622R airplanes, and Model A300 C4-605R Variant F airplanes, certificated in any category, except those on which Airbus Modification 8608 is incorporated in production.

(d) Subject

Air Transport Association (ATA) of America Code 57, Wings.

(e) Reason

This AD was prompted by reports of cracking in the vertical web of the center spar sealing angles of the wing, and subsequent analyses that showed that the inspection threshold and interval specified in AD 98-18-02, Amendment 39-10718 (63 FR 45689, August 27, 1998), must be reduced to allow timely detection of cracks on the sealing angles of the center spar, adjacent to rib 8. We are issuing this AD to prevent crack formation in the sealing angles; such cracks could rupture the sealing angle and lead to subsequent crack formation in the bottom skin of the wing, and resultant reduced structural integrity of the center spar section of the wing.

(f) Compliance

You are responsible for having the actions required by this AD performed within the compliance times specified, unless the actions have already been done.

(g) Inspection and Modification

For all airplanes, at the applicable time specified in paragraph (h) of this AD, accomplish the actions specified in paragraphs (g)(1) and (g)(2) of this AD concurrently. Repeat the inspection required by paragraph (g)(1) of this AD thereafter at intervals not to exceed the values as specified in the “Repeat Interval” column in Table 1 or Table 2 of Airbus Service Bulletin A300-57-6027, Revision 07, dated June 6, 2011, as applicable to the airplane configuration and utilization; except as required by paragraph (k) of this AD.

(1) Do a high frequency eddy current (HFEC) inspection of the center spar sealing angles adjacent to the pylon rear attachment fitting for cracks, in accordance with the Accomplishment Instructions of Airbus Service Bulletin A300-57-6027, Revision 07, dated June 6, 2011.

(2) Unless already done: Modify the airplane by cold expansion of the center spar sealing angles outboard of rib 8, adjacent to the pylon rear attachment fitting, including doing the eddy current inspections for cracks of the bolt holes, in accordance with the Accomplishment Instructions of Airbus Service Bulletin A300-57-6033, Revision 02, dated September 19, 2011.

(h) Initial Compliance Times for the Actions Required by Paragraph (g) of This AD

At the later of the times specified in paragraphs (h)(1) and (h)(2) of this AD, except as required by paragraph (k) of this AD, do the actions required by paragraph (g) of this AD.

(1) At the applicable compliance time specified in Table 1 and Table 2 in the “Threshold Inspection,” column in paragraph 1.E., “Compliance,” of Airbus Service Bulletin A300-57-6027, Revision 07, dated June 6, 2011.

(2) At the applicable compliance time specified in Table 1 and Table 2 in the “Grace Period,” column in paragraph 1.E., “Compliance,” of Airbus Service Bulletin A300-57-6027, Revision 07, dated June 6, 2011.

(i) Corrective Actions

If, during any inspection required by paragraph (g), (g)(1), or (g)(2) of this AD, any crack is found: Before further flight, repair the crack by replacing both of the forward and aft sealing angles with new sealing angles and cold expansion of the attachment holes, in accordance with the Accomplishment Instructions of Airbus Service Bulletin A300-57-6027, Revision 07, dated June 6, 2011. The corrective actions, as required by this paragraph, do not constitute as a terminating action for the repetitive inspections specified in paragraph (g)(1) of this AD.

(j) Post-Modification Actions

For airplanes on which the modification specified in Airbus Repair Drawing R571504040 has been done: Within 3 months after the effective date of this AD, or before further flight after doing the modification, whichever occurs later, contact the Manager, International Branch, ANM-116, Transport Airplane Directorate, FAA, or the European Aviation Safety Agency (EASA); or Airbus's EASA Design Organization Approval (DOA) for repetitive post-repair inspections and corrective actions, and do those actions.

(k) Exceptions to the Service Information

(1) Where Note 01 and Note 02 of paragraph 1.E., “Compliance,” of Airbus Service Bulletin A300-57-6027, Revision 07, dated June 6, 2011, specify to contact Airbus for inspection requirements, this AD requires, at the applicable compliance time specified in Table 1 and Table 2 in the “Grace Period,” column in paragraph 1.E., “Compliance,” of Airbus Service Bulletin A300-57-6027, Revision 07, dated June 6, 2011, inspecting using a method approved by the Manager, International Branch, ANM-116, Transport Airplane Directorate, FAA; or EASA; or Airbus's EASA DOA.

(2) Where Airbus Service Bulletin A300-57-6027, Revision 07, dated June 6, 2011, specifies a compliance time in Table 1 and Table 2 in the “Grace Period,” column in paragraph 1.E., “Compliance,” this AD requires compliance within the specified compliance time after the effective date of this AD.

(3) Where Table 1 and Table 2 in paragraph 1.E., “Compliance,” of Airbus Service Bulletin A300-57-6027, Revision 07, dated June 6, 2011, specify a choice between flight cycles or flight hours, this AD requires a compliance time within the specified flight cycles or flight hours, whichever occurs first.

(4) Where Table 1 and Table 2 in paragraph 1.E., “Compliance,” of Airbus Service Bulletin A300-57-6027, Revision 07, dated June 6, 2011, specify compliance times in the “Threshold Inspection” column for pre-modification 8609, those compliance times are flight cycles or flight hours since first flight of the airplane.

(5) Where Table 1 and Table 2 in paragraph 1.E., “Compliance,” of Airbus Service Bulletin A300-57-6027, Revision 07, dated June 6, 2011, specify compliance times in the “Threshold Inspection” column for any post modification or repair, this AD requires compliance within the applicable compliance time specified in the “Threshold Inspection” column of Table 1 and Table 2 in paragraph 1.E., “Compliance,” of Airbus Service Bulletin A300-57-6027, Revision 07, dated June 6, 2011. Those compliance times are flight cycles or flight hours since accomplishing the modification or repair.

(l) Credit for Previous Actions

This paragraph provides credit for the actions required by paragraph (g)(1) of this AD, if those actions were performed before the effective date of this AD using the service information specified in paragraphs (l)(1) through (l)(3) of this AD, which is not incorporated by reference in this AD.

(1) Airbus Service Bulletin A300-57-6027, Revision 04, dated August 4, 1999.

(2) Airbus Service Bulletin A300-57-6027, Revision 05, dated November 21, 2002.

(3) Airbus Service Bulletin A300-57-6027, Revision 06, dated March 2, 2005.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(n) Related Information

(1) Refer to Mandatory Continuing Airworthiness Information (MCAI) EASA AD 2012-0194, dated September 25, 2012, for related information. This MCAI may be found in the AD docket on the Internet at http://www.regulations.gov by searching for and locating Docket No. FAA-2014-0282.

(2) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-57-6027, Revision 07, dated June 6, 2011.

(ii) Airbus Service Bulletin A300-57-6033, Revision 02, dated September 19, 2011.

(3) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 10, 2015.
Michael Kaszycki,
Acting Manager, Transport Airplane Directorate, Aircraft Certification Service.

[FR Doc. 2015-20382 Filed 8-19-15; 8:45 am]

BILLING CODE 4910-13-P